DEPARTMENT OF HEALTH AND HUMAN SERVICES

Centers for Disease Control and Prevention

Notice To Change Catalog of Federal Domestic Assistance (CFDA) Number

AGENCY: Centers for Disease Control and Prevention (CDC), Department of Health and Human Services (HHS).

ACTION: Notice.

SUMMARY: This notice provides public announcement of CDC's intent to award two awards to eligible applicants of State or Territorial Public Health Newborn Bloodspot Screening Programs. These activities are proposed by the above-mentioned grantees in their FY 2011 applications submitted under funding opportunity CDC-RFA-EH11-001, “Program to Support New Implementation of State or Territorial Public Health Laboratory Capacity for Newborn Bloodspot Screening of Severe Combined Immune Deficiency (SCID) (U01), ” Catalog of Federal Domestic Assistance Number (CFDA): 93.070. Approximately $900,000 in funding will be awarded to the grantees for the implementation of newborn screening for SCID.

Accordingly, CDC adds the following information to the previously published funding opportunity announcement of EH11-001:

Authority: Authorized under Section 301 of the Public Health Service Act, [42 U.S.C. 241], as amended.

CFDA #: 93.070 Environmental Public Health Emergency Response.

Award Information

Type of Award: New Competing Cooperative Agreement.

Approximate Total Current Fiscal Year ACA Funding: $900,000.

Anticipated Number of Awards: 2.

Fiscal Year Funds: 2011.

Anticipated Award Date: September 1, 2011.

Application Selection Process

Funding will be awarded to applicants based on results from the peer review panel ranking recommendations.

Funding Authority

CDC will add the authority to that which is reflected in the published Funding Opportunity CDC-RFA-EH11-001. The revised funding authority language will read:

—Authorized under Section 301 of the Public Health Service Act, [42 U.S.C. 241], as amended.

DATES: The effective date for this action is the date of publication of this Notice and remains in effect until the expiration of the project period of the funded applications.

FOR FURTHER INFORMATION CONTACT: Beth Gardner, Extramural Team Lead, National Center for Environmental Health, Centers for Disease Control and Prevention, 4770 Buford Hwy., Atlanta, GA 30341, telephone (770) 488-0572, e-mail Bgardner@cdc.gov.

SUPPLEMENTARY INFORMATION: None.

Dated: August 3, 2011.
James Stephens,
Director of the Office of Science Quality, Centers for Disease Control and Prevention.

[FR Doc. 2011-20507 Filed 8-11-11; 8:45 am]

BILLING CODE 4163-18-P